DEPARTMENT OF TRANSPORTATION

Federal Aviation Administration

14 CFR Part 39

[Docket No. 2002-NM-164-AD; Amendment 39-13308; AD 2003-19-05]

RIN 2120-AA64

Airworthiness Directives; McDonnell Douglas Model DC-10-10, -10F, -15, -30, -30F (KC-10A and KDC-10), -40, and -40F Airplanes; and Model MD-10-10F and -30F Airplanes

AGENCY: Federal Aviation Administration, DOT.

ACTION: Final rule; correction.

SUMMARY: This document corrects an error that appeared in airworthiness directive (AD) 2003-19-05 that was published in the Federal Register on September 22, 2003 (68 FR 54992). The error resulted in an incorrect Type Certificate holder name. This AD is applicable to certain McDonnell Douglas Model DC-10-10, -10F, -15, -30, -30F (KC-10A and KDC-10), -40, and -40F airplanes; and certain Model MD-10-10F and -30F airplanes. This AD requires inspections for cracking and corrosion of the bolt assemblies and bushings on the hinge fittings of the inboard and outboard flaps of the left and right wings, and follow-on and corrective actions.

DATES: Effective October 27, 2003.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION: Airworthiness Directive (AD) 2003-19-05, amendment 39-13308, applicable to certain McDonnell Douglas Model DC-10-10, -10F, -15, -30, -30F (KC-10A and KDC-10), -40, and -40F airplanes; and certain Model MD-10-10F and -30F airplanes; was published in the Federal Register on September 22, 2003 (68 FR 54992). That AD requires inspections for cracking and corrosion of the bolt assemblies and bushings on the hinge fittings of the inboard and outboard flaps of the left and right wings, and follow-on and corrective actions.

As published, the Type Certificate (TC) holder name appears as “BOEING” in the regulatory text of the AD. The correct TC holder name is McDonnell Douglas, which is correctly referenced throughout the preamble of the the AD.

Since no other part of the regulatory information has been changed, the final rule is not being republished in the Federal Register.

The effective date of this AD remains October 27, 2003.

§ 39.13 [Corrected]

On page 54993, in the second column, paragraph 2. of Part 39—Airworthiness Directives of AD 2003-19-05 is corrected to read as follows:

* * * * *

2. Section 39.13 is amended by adding the following new airworthiness directive:

2003-19-05 McDonnell Douglas: Amendment 39-13308. Docket 2002-NM-164-AD.

* * * * *

Issued in Renton, Washington, on October 17, 2003.
Neil D. Schalekamp,
Acting Manager, Transport Airplane Directorate, Aircraft Certification Service.

[FR Doc. 03-26721 Filed 10-22-03; 8:45 am]

BILLING CODE 4910-13-P